Title 3—

The President

Proclamation 9002 of August 9, 2013

National Health Center Week, 2013

By the President of the United States of America

A Proclamation

Community health centers play a critical role in providing affordable, high-quality preventive and primary health care to millions of Americans. From urban centers to rural towns, they offer vital services regardless of ability to pay—services that help patients stay healthy and avoid emergency room visits. During National Health Center Week, we recognize health centers' significant contributions to keeping America healthy, and we offer our continuing support to the dedicated providers who operate them.

Today, health centers operate thousands of clinics across our country. One in every fifteen people living in the United States depends on their services. They are an important source of jobs in many low-income communities, employing more than 148,000 people nationwide. And with clinical and support staff who are responsive to their communities' needs and cultures, health centers are important partners in our efforts to reduce health disparities. From coast to coast, they coordinate care and build professional, compassionate health care teams focused on improving patient outcomes.

My Administration has worked to strengthen this essential network. Through the Affordable Care Act and the Recovery Act, we have made significant investments that have helped health centers expand their work, which is now reaching more than 20 million people each year.

As millions of Americans gain access to more health insurance options through the Affordable Care Act, health centers remain as valuable as ever. They help community members understand their options, determine their eligibility, and review possibilities for financial assistance. With support and funding from the health care law, health centers are also helping the uninsured enroll in plans made available through the new Health Insurance Marketplace, as well as in Medicaid and the Children's Health Insurance Program.

This week, we celebrate these valuable services and extend our thanks to the women and men who operate America's health centers.

NOW, THEREFORE, I, BARACK OBAMA, President of the United States of America, by virtue of the authority vested in me by the Constitution and the laws of the United States, do hereby proclaim the week of August 11 through August 17, 2013, as National Health Center Week. I encourage all Americans to celebrate this week by visiting their local health center, meeting health center providers, and exploring the programs they offer to help keep families healthy.

IN WITNESS WHEREOF, I have hereunto set my hand this ninth day of August, in the year of our Lord two thousand thirteen, and of the Independence of the United States of America the two hundred and thirty-eighth.

[FR Doc. 2013-19818

Filed 8-13-13; 8:45 am]

Billing code 3295-F3